DEPARTMENT OF TRANSPORTATION

Office of the Secretary

Aviation Proceedings, Agreements Filed the Week Ending February 13, 2010

The following Agreements were filed with the Department of Transportation under the Sections 412 and 414 of the Federal Aviation Act, as amended (49 U.S.C. 1382 and 1384) and procedures governing proceedings to enforce these provisions. Answers may be filed within 21 days after the filing of the application.

Docket Number: DOT-OST-2010-0031.

Date Filed: February 9, 2010.

Parties: Members of the International Air Transport Association.

Subject: Mail Vote 621.

Special Passenger Amending Resolution 010n, from Hong Kong SAR to India, (Memo 1355).

Intended effective date: 22 February 2010.

Docket Number: DOT-OST-2010-0032.

Date Filed: February 9, 2010.

Parties: Members of the International Air Transport Association.

Subject: Mail Vote 619.

TC3 Special Passenger Amending Resolution 010m between Korea (Rep. of) and China excluding Hong Kong SAR and Macao SAR, (Memo 1354).

Intended effective date: 15 February 2010.

Docket Number: DOT-OST-2010-0033.

Date Filed: February 12, 2010.

Parties: Members of the International Air Transport Association.

Subject: Mail Vote 622.

TC3 Within South East Asia, Special Passenger Amending Resolution 010o between Viet Nam and Myanmar (Memo 1356).

Intended effective date: 22 February 2010.

Renee V. Wright,
Program Manager, Docket Operations, Federal Register Liaison.

[FR Doc. 2010-4674 Filed 3-4-10; 8:45 am]

BILLING CODE 4910-9X-P